ENVIRONMENTAL PROTECTION AGENCY

[EPA-HQ-OECA-2011-0824; FRL-10001-83-OMS]

Agency Information Collection Activities; Submission to OMB for Review and Approval; Comment Request; Pesticide Establishment Application, Notification of Registration, and Pesticide Production Reports for Pesticide-Producing and Device-Producing Establishments (Renewal)

AGENCY: Environmental Protection Agency (EPA).

ACTION: Notice.

SUMMARY: The Environmental Protection Agency (EPA) submitted an information collection request (ICR), Pesticide Establishment Application, Notification of Registration, and Pesticide Production Reports for Pesticide-Producing and Device-Producing Establishments (EPA ICR Number 0160.12, OMB Control Number 2070-0078) to the Office of Management and Budget (OMB) for review and approval in accordance with the Paperwork Reduction Act. This is a proposed extension of the ICR, which is currently approved through January 31, 2020. Public comments were previously requested via the Federal Register on May 6, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 26, 2019.

ADDRESSES: Submit your comments, referencing Docket ID No. EPA-HQ-OECA-2011-0824 to: (1) EPA online using http://www.regulations.gov (our preferred method), or by email to docket.oeca@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Michelle Yaras, Office of Compliance, Monitoring, Assistance, and Media Programs Division, Pesticides, Waste, and Toxics Branch (2225A), Environmental Protection Agency, 1200 Pennsylvania Avenue NW, Washington, DC 20460; telephone number: (202) 564-4153; email: yaras.michelle@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Federal Insecticide, Fungicide, and Rodenticide Act (FIFRA) Section 7(a) requires that any person who produces pesticides or pesticide devices subject to the Act must register with the Administrator of EPA the establishment in which the pesticide or the device is produced. This Section further requires that application for registration of any establishment shall include the name and address of the establishment and of the producer who operates such an establishment. EPA Form 3540-8, Application for Registration of Pesticide-Producing and Device-Producing Establishments, is used to collect the establishment registration information required by this Section.

FIFRA Section 7(c) requires that any producer operating an establishment registered under Section 7 report to the Administrator within 30 days after it is registered, and annually thereafter by March 1st for certain pesticide/device production and sales/distribution information. The producers must report which types and amounts of pesticides, active ingredients, or devices are currently being produced, were produced during the past year, and sold or distributed in the past year. The supporting regulations at 40 CFR part 167 provide the requirements and time schedules for submitting production information. EPA Form 3540-16, Pesticide Report for Pesticide-Producing and Device-Producing Establishments, is used to collect the pesticide production information required by Section 7(c) of FIFRA.

Establishment registration information, collected on EPA Form 3540-8, is a one-time requirement for all pesticide-producing and device-producing establishments. Pesticide and device production information, reported on EPA Form 3540-16, is required to be submitted within 30 days after the company is notified of their pesticide-producing or device-producing establishment number, and annually thereafter on or before March 1st.

In January 2016, EPA launched an additional voluntary option for pesticide establishments to electronically register their establishments and report their production through EPA's Central Data Exchange (CDX).

Form Numbers: EPA Forms 3540-8 and 3540-16.

Respondents/affected entities: Pesticide-producing and device-producing establishments.

Respondent's obligation to respond: Mandatory (40 CFR part 167).

Estimated Number of Respondents: 15,063.

Frequency of Response: Annually.

Estimated Total Annual Hour Burden: 27,136.

Estimated Total Annual Cost: $1,955,029. There are no annualized capital or O&M costs associated with this ICR since all equipment associated with this ICR is present as part of ordinary business practices.

Changes in the Estimates: There is an increase of 3,057 hours in burden due to the wholesale reassessment of the burden covered by this ICR based on to the option of electronic submission, which began in 2016. Some adjustments resulted from corrections of clerical or computational errors in the previous ICR renewal supporting statement. All other adjustments to the burden estimates resulted from (1) adjustments in the salary computation for industry to reflect current wage scales, (2) adjustments for inflation, (3) adjustment to the number of respondents, and (4) adjustments based on differences in submitting information through the paper form or the eReporting system.

Courtney Kerwin,
Director, Regulatory Support Division.

[FR Doc. 2019-25592 Filed 11-25-19; 8:45 am]

BILLING CODE 6560-50-P